LIBRARY OF CONGRESS

Copyright Office

37 CFR Part 201 and 210

[Docket No. 2012-7]

Mechanical and Digital Phonorecord Delivery Compulsory License

AGENCY: Copyright Office, Library of Congress.

ACTION: Notice of proposed rulemaking: Extension of reply comment periods.

SUMMARY: The Copyright Office is extending the deadline for filing reply comments regarding its Notice of Proposed Rulemaking concerning regulations for reporting Monthly and Annual Statements of Account for the making and distribution of phonorecords under a compulsory license.

DATES: Reply comments on the proposed regulation must be received in the Office of the General Counsel of the Copyright Office no later than 5 p.m. Eastern Daylight Time (EDT) on December 10, 2012.

ADDRESSES: The Copyright Office strongly prefers that reply comments be submitted electronically. A comment submission page is posted on the Copyright Office Web site at http://www.copyright.gov/docs/section115/soa/comments/. The Web site interface requires submitters to complete a form specifying name and other required information, and to upload comments as an attachment. To meet accessibility standards, all comments must be uploaded in a single file in either the Adobe Portable Document File (PDF) format that contains searchable, accessible text (not an image); Microsoft Word; WordPerfect; Rich Text Format (RTF); or ASCII text file format (not a scanned document). The maximum file size is 6 megabytes (MB). The name of the submitter and organization should appear on both the form and the face of the comments. All comments will be posted publicly on the Copyright Office Web site exactly as they are received, along with names and organizations if provided. If electronic submission of comments is not feasible, please contact the Copyright Office at (202) 707-8380 for special instructions.

FOR FURTHER INFORMATION CONTACT: Tanya Sandros, Deputy General Counsel, or Stephen Ruwe, Attorney Advisor, Copyright GC/I&R, P.O. Box 70400, Washington, DC 20024. Telephone: (202) 707-8380. Telefax: (202) 707-8366.

SUPPLEMENTARY INFORMATION: On July 27, 2012, the Copyright Office published a notice of proposed rulemaking and request for comments concerning a new regulation that would amend the regulations for reporting Monthly and Annual Statements of Account for the making and distribution of phonorecords under the compulsory license, 17 U.S.C. 115, to bring the regulations up-to-date to reflect recent and pending rate determinations by the Copyright Royalty Judges, which among other things provide new rates for limited downloads, interactive streaming and incidental digital phonorecord deliveries, and to harmonize these reporting requirements with the existing regulations for reporting the making and distribution of physical phonorecords, permanent downloads and ringtones. The notice of proposed rulemaking stated that comments would be due no later than September 25, 2012 and that reply comments would be due October 25, 2012. Upon the request of several active institutional participants in the mechanical compulsory license system, the Copyright Office extended the comment deadline, making the comments due on October 25, 2012 and reply comments due on November 26, 2012. 77 FR 55783 (September 11, 2012). The Copyright Office posted all comments received by the October 25, 2012 deadline on the Copyright Office Web site at http://www.copyright.gov/docs/docket2012-7/comments/initial/.

On November 7, 2012, the Copyright Office received a joint motion filed on behalf of the Recording Industry Association of America, Inc., National Music Publishers Association, Digital Media Association, and Music Reports, Inc., (“Joint Requestors”) to extend the reply comment period by two weeks (i.e. until December 10, 2012). The Joint Requestors stated that they hope to be in a position to suggest specific certification language in their reply comments. However, they note that several key individuals involved in the Joint Requesters' discussions were adversely affected by Hurricane Sandy, and that discussions have been disrupted for over a week. They stated that a two week extension would allow them to discuss consensus positions and prepare a written submission setting forth whatever consensus positions are able to be reached.

In the interest of giving the Joint Requestors, the necessary time to conclude the process of formulating consensus positions, the progress of which was interrupted by Hurricane Sandy, the Copyright Office has decided to grant the request and extend the reply comment period by two weeks, making the reply comments due on December 10, 2012).

Dated: November 8, 2012.
Maria Pallante,
Register of Copyrights.

[FR Doc. 2012-27774 Filed 11-14-12; 8:45 am]

BILLING CODE 1410-30-P